DEPARTMENT OF LABOR

Employment and Training Administration

[TA-W-63,486]

Grapevine Staffing, LLC, Workers On-Site at O'Bryan Brothers Incorporated, Leon, IA; Notice of Termination of Investigation

Pursuant to Section 221 of the Trade Act of 1974, as amended, an investigation was initiated on June 5, 2008, in response to a petition filed by a State agency representative on behalf of workers of Grapevine Staffing, LLC, working on-site at O'Bryan Brothers Incorporated, Leon, Iowa.

The petitioning worker group is covered by a certification of eligibility to apply for worker adjustment assistance and alternative trade adjustment assistance under amended petition number TA-W-61,265, which does not expire until May 16, 2009.

Consequently, further investigation in this case would serve no purpose and the investigation has been terminated.

Signed at Washington, DC, this 13th day of June 2008.
Linda G. Poole,
Certifying Officer, Division of Trade Adjustment Assistance.

[FR Doc. E8-13971 Filed 6-19-08; 8:45 am]

BILLING CODE 4510-FN-P